DEPARTMENT OF ENERGY

Federal Energy Regulatory Commission

[Docket No. EC03-36-000, et al]

Northwestern Wind Power, LLC, et al.; Electric Rate and Corporate Filings

December 24, 2002.

The following filings have been made with the Commission. The filings are listed in ascending order within each docket classification:

1. Northwestern Wind Power, LLC

[Docket No. EC03-36-000]

Take notice that on December 20, 2002, Northwestern Wind Power, LLC (Northwestern) and Klondike Wind Power LLC (Klondike) filed an application for authorization pursuant to Section 203 of the Federal Power Act for Northwestern to sell, and for Klondike to purchase, certain assets of Northwestern's Klondike Project in Oregon. The transaction would transfer ownership of a 24 megawatt wind electric generation facility at the Klondike Project. Jurisdictional assets included in the transaction are a long-term power purchase agreement for the facility's entire output, and limited substation transmission facilities necessary to interconnect the facility's power to a transmitting utility.

Comment Date: January 7, 2003.

2. Flying Cloud Power Partners, LLC

[Docket No. EG02-32-000]

Take notice that on December 20, 2002, Flying Cloud Power Partners, LLC (Flying Cloud), filed with the Federal Energy Regulatory Commission an application for determination of exempt wholesale generator status pursuant to part 365 of the Commission's regulations.

Flying Cloud, a Delaware limited liability company, will be engaged directly and exclusively in the business of owning all or part of one or more eligible facilities, and selling electric energy at wholesale. Flying Cloud is developing a 43.5 megawatt wind power generation facility to be located in Dickinson County, Iowa (the “Facilities”). The Facilities will be eligible facilities pursuant to Section 32(a)(2) of PUHCA. Flying Cloud states that it has served a copy of the filing on the Securities and Exchange Commission and the Iowa Utilities Board.

Comment Date: January 14, 2003.

3. Just Energy, LLC

[Docket No. ER02-2134-002]

Take notice that on December 19, 2002, Just Energy, LLC (Just Energy) tendered for filing a compliance filing in the above-referenced docket involving Just Energy, LLC Tariff Sheet No. 1.

Comment Date: January 10, 2003.

4. Virginia Electric and Power Company

[Docket No. ER03-106-002]

Take notice that on December 20, 2002, Virginia Electric and Power Company (the Dominion Virginia Power or Company), respectfully tendered for filing the second amended filing in this proceeding. Dominion Virginia Power respectfully requests a waiver of the Commission's regulations and permit an effective date of January 1, 2003, as requested in the filing of October 31, 2002.

Dominion Virginia Power states that copies of the filing were served upon the Virginia State Corporation Commission, the North Carolina Utilities Commission, Old Dominion Electric Cooperative, and all customers under the wholesale cost based tariff.

Comment Date: January 10, 2003.

5. Flying Cloud Power Partners, LLC

[Docket No. ER03-296-000]

Take notice that on December 19, 2002, Flying Cloud Power Partners, LLC (Flying Cloud) tendered for filing pursuant to 18 CFR 385.205, an Application for Order Accepting Initial Rate Schedule, Granting Authorizations and Blanket Authority and Waving Certain Requirements.

Comment Date: January 9, 2003.

6. New York Independent System Operator, Inc.

[Docket No. ER03-297-000]

Take notice that on December 19, 2002, the New York Independent System Operator, Inc. (NYISO), filed proposed revisions to the NYISO's Market Administration and Control Area Services Tariff (Services Tariff). The proposed filing would amend the TCC credit policy. The NYISO has requested that the Commission make the filing effective on January 10, 2003.

The NYISO has served a copy of this filing to all parties that have executed Service Agreements under the NYISO's Open-Access Transmission Tariff or Services Tariff, the New York State Public Service Commission and to the electric utility regulatory agencies in New Jersey and Pennsylvania.

Comment Date: January 9, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

[FR Doc. 02-33077 Filed 12-31-02; 8:45 am]

BILLING CODE 6717-01-P